DEPARTMENT OF LABOR

Office of the Secretary

Combating Child Labor Through Education in Brazil; Combating Child Trafficking and Commercial Sexual Exploitation Through Education in Cambodia; Combating Child Trafficking Through Education in Benin, Burkina Faso and Mali

AGENCY: Bureau of International Labor Affairs, Department of Labor.

ACTION: Notice of availability of funds and solicitation for cooperative agreement applications (SGA 03-05).

SUMMARY: This notice contains all of the necessary information and forms needed to apply for cooperative agreement funding. The U.S. Department of Labor, Bureau of International Labor Affairs will award up to U.S. $16 million through one or more cooperative agreements to an organization or organizations to improve access to quality education programs as a means to combat child labor in Brazil ($5 million), Cambodia ($3 million), and the West African countries of Benin ($2 million), Burkina Faso ($3 million) and Mali ($3 million). The activities funded will complement and expand upon existing projects and programs to improve basic education in these countries, and provide access to basic education to children in areas of high incidence of exploitative child labor. In Brazil the activities will strengthen the quality of existing child labor and education programs. The special focus in Cambodia will be to provide education to victims of, and children at risk of entering, child trafficking and commercial sexual exploitation, and in West Africa to victims of, and children at risk of entering, child trafficking.

Applicants must submit a separate application for each country. If applications for countries are combined, they will not be considered.

DATES: The closing date for receipt of application is June 20, 2003. As discussed in section II.B and C, applications must be received by 4:45 p.m. (eastern time) at the address below. No exceptions to the mailing, delivery, and hand-delivery conditions set forth in this notice will be granted. Applications that do not meet the conditions set forth in this notice will not be honored. Telegram, facsimile (FAX), and e-mail applications will not be honored.

ADDRESSES: Application forms will not be mailed. They are published as part of this Federal Register notice, and in the Federal Register, which may be obtained from your nearest U.S. Government office or public library or online at http://www.archives.gov/federal_register/index.html. Applications must be delivered to: U.S. Department of Labor, Procurement Services Center, 200 Constitution Avenue, NW., Room N-5416, Attention: Lisa Harvey, Reference: SGA 03-05, Washington, DC 20210. Applications sent by e-mail, telegram, or facsimile (FAX) will not be accepted. Applications sent by other delivery services, such as Federal Express, UPS, etc., will be accepted; however, the applicant bears the responsibility for timely submission.

FOR FURTHER INFORMATION CONTACT: Lisa Harvey. E-mail address: harvey.lisa@dol.gov. All applicants are advised that U.S. mail delivery in the Washington DC area has been slow and erratic due to concerns involving anthrax contamination. All applicants must take this into consideration when preparing to meet the application deadline. It is recommended that you confirm receipt of your application with your delivery service. See section II.C for additional information.

SUPPLEMENTARY INFORMATION: The U.S. Department of Labor (USDOL), Bureau of International Labor Affairs (ILAB), announces the availability of funds to be granted by cooperative agreement (hereafter referred to as “grant”) to one or more qualifying organizations for the purpose of promoting school attendance in areas of high and exploitative child labor in Brazil, Cambodia, and the West African countries of Benin, Burkina Faso, and Mali. The grant or grants awarded under this initiative will be managed by ILAB's International Child Labor Program to assure achievement of the stated goals. Applicants are encouraged to be creative in proposing cost-effective interventions that will have a demonstrable impact in promoting school attendance in areas of those countries where children are engaged in or are most at risk of working in the worst forms of child labor, and for child victims of trafficking.

I. Authority

ILAB is authorized to award and administer this program by Departments of Labor, Health and Human Services, and Education and Related Agencies Appropriations Act, 2002, Pub.L. No. 107-116, 115 Stat. 2177 (2002).

II. Application Process

A. Eligible Applicants

Any commercial, international, educational, or non-profit organization capable of successfully developing and implementing education programs for child laborers or children at risk in the countries of interest is eligible to apply. Partnerships of more than one organization are also eligible, and applicants are strongly encouraged to work with organizations already undertaking projects in the countries of interest, particularly local NGOs and faith based-organizations. (All applicants are requested to complete the Survey on Ensuring Equal Opportunity for Applicants (OMB No. 1225-0083), which is available online at http://www.dol.gov/ILAB/grants/education/sga0305/bkgrdSGA0305.htm.) In the case of partnerships, a lead organization to sign the agreement must be identified. The capability of an applicant or applicants to perform necessary aspects of this solicitation will be determined under Section V.B Rating Criteria and Selection.

Please note that eligible grant applicants must not be classified under the Internal Revenue Code as a 501(c)(4) entity. See 26 U.S.C. 501(c)(4). According to the Lobbying Disclosure Act of 1995, as amended by 2 U.S.C. 1611, an organization, as described in section 501(c)(4) of the Internal Revenue Code of 1986, that engages in lobbying activities will not be eligible for the receipt of federal funds constituting an award, grant, or loan.

B. Submission of Applications

One (1) blue ink-signed original, complete application in English plus two (2) copies (in English) of the application, must be submitted to the U.S. Department of Labor, Procurement Services Center, 200 Constitution Avenue, NW., Room N-5416, Washington, DC 20210, not later than 4:45 p.m. eastern time, June 20, 2003. Applicants may submit applications for one or more countries. In the case where an applicant is interested in applying for a grant in more than one country, a separate application must be submitted for each country.

The application must consist of two (2) separate parts. Part I of the application must contain the Standard Form (SF) 424, “Application for Federal Assistance” and sections A-F of the Budget Information Form SF 424A, available from ILAB's Web site at http://www.dol.gov/ILAB/grants/education/sga0305/bkgrdSGA0305.htm. Copies of these forms are also available online from the GSA Web site at http://contacts.gsa.gov/webforms.nsf/0/B835648D66D1B8F985256A72004C58C2/$file/sf424.pdf and http://contacts.gsa.gov/webforms.nsf/0/5AEB1FA6FB3B832385256A72004C8E77/$file/Sf424a.pdf. Part II must contain a technical application that demonstrates capabilities in accordance with the Statement of Work (section IV.A) and Rating Criteria (section V.B).

To be considered responsive to this solicitation, the application must consist of the above-mentioned separate sections not to exceed 45 single-sided (8-1/2″ x 11″), double-spaced, 10 to 12 pitch typed pages for each country, following the format presented in the Statement of Work (section V.B Rating Criteria and Selection). This requirement includes a project document submitted in the format shown in Appendix A. Any applications that do not conform to these standards may be deemed non-responsive to this solicitation and may not be evaluated. Standard forms and attachments are not included in the page limit. Each application must include a table of contents and an abstract summarizing the application in not more that two (2) pages. These pages are also not included in the page limits.

The individual signing the SF 424 on behalf of the Applicant must be authorized to bind the Applicant.

C. Acceptable Methods of Submission

The grant application package must be received at the designated place by the date and time specified or it will not be considered. Any application received at Procurement Services Center after 4:45 p.m. eastern time, June 20, 2003, will not be considered unless it is received before the award is made and:

1. It is determined by the government that the late receipt was due solely to mishandling by government after receipt at the U.S. Department of Labor at the address indicated;

2. It was sent by registered or certified mail not later than the fifth calendar day before June 20, 2003; or

3. It was sent by U.S. Postal Service Express Mail Next Day Service-Post Office to Addressee, not later than 5 p.m. at the place of mailing two (2) working days, excluding weekends and Federal holidays, prior to June 20, 2003.

The only acceptable evidence to establish the date of mailing of a late application sent by registered or certified mail is the U.S. Postal Service postmark on the envelope or wrapper and on the original receipt from the U.S. Postal Service. If the postmark is not legible, an application received after the above closing time and date shall be processed as if mailed late. “Postmark” means a printed, stamped, or otherwise placed impression (not a postage meter machine impression) that is readily identifiable without further action as having been applied and affixed by an employee of the U.S. Postal Service on the date of mailing. Therefore, applicants should request that the postal clerk place a legible hand cancellation “bull's-eye” postmark on both the receipt and the envelope or wrapper.

The only acceptable evidence to establish the date of mailing of a late application sent by U.S. Postal Service Express Mail Next Day Service-Post Office to Addressee is the date entered by the Post Office receiving clerk on the “Express Mail Next Day Service-Post Office to Addressee” label and the postmark on the envelope or wrapper on the original receipt from the U.S. Postal Service. “Postmark” has the same meaning as defined above. Therefore, applicants should request that the postal clerk place a legible hand cancellation “bull's-eye” postmark on both the receipt and the envelope or wrapper.

The only acceptable evidence to establish the time of receipt at the U.S. Department of Labor is the date/time stamp of the Procurement Service Center on the application wrapper or other documentary evidence or receipt maintained by that office.

Applications sent by e-mail, telegram, or facsimile (FAX) will not be accepted. Applications sent by other delivery services, such as Federal Express, UPS, etc., will be accepted, however the applicant bears the responsibility for timely submission. Confirmation of receipt can be made with Lisa Harvey, U.S. Department of Labor, Procurement Services Center, telephone (202) 693-4570 (this is not a toll-free-number) or e-mail: harvey.lisa@dol.gov.

D. Funding Levels

Up to U.S. $16 million is available under this solicitation, with up to $5 million for Brazil, up to $3 million for Cambodia, up to $2 million for Benin, up to $3 million for Burkina Faso, and up to $3 million for Mali. USDOL may award one or more grants to one, several, or a partnership of more than one organization which may apply to implement the program. Any subcontractor must be approved by USDOL.

E. Program Duration

The duration of the projects funded by this SGA is for four (4) years. The start date of program activities will be negotiated upon awarding of the grant, but no later than September 30, 2003.

III. Background and Program Scope

A. USDOL Support of Global Elimination of Child Labor

The International Labor Organization (ILO) estimated that 211 million children between the ages of five and 14 were working around the world in 2000. Full-time child workers are generally unable to attend school, and part-time child laborers balance economic survival with schooling from an early age, often to the detriment of their education. Since 1995, the U.S. Congress has provided USDOL with funds to support worldwide technical assistance programs implemented by the ILO's International Program on the Elimination of Child Labor (ILO/IPEC). To date, USDOL has contributed U.S. $157 million to ILO/IPEC, making the United States the program's largest donor and a leader in global efforts to combat child labor.

Programs funded by USDOL have evolved from targeted action programs in specific sectors to more comprehensive efforts that target the worst forms of child labor as defined by ILO Convention 182. Convention 182 lists four categories of the worst forms of child labor, and calls for their immediate elimination:

• All forms of slavery or practices similar to slavery, such as the sale and trafficking of children; debt bondage and serfdom and forced or compulsory labor; including forced or compulsory recruitment of children for use in armed conflict;

• The use, procurement or offering of a child for prostitution, production of pornography or pornographic performances;

• The use, procurement or offering of a child for illicit activities, in particular for the production and trafficking of drugs as defined in the relevant international treaties;

• Work which by its nature or by the circumstances by which it is carried out, is likely to harm the health, safety, and morals of children.

In determining the types of work likely to harm the health, safety and morals of children, Convention 182 considers the following: Work which exposes a child to physical, psychological or sexual abuse; work underground, underwater, at dangerous heights or in confined workplaces; work with dangerous machinery, equipment and tools or handling or transporting heavy loads; work in an unhealthy environment including exposure to hazardous substances, agents or processes, or to temperatures, noise levels or vibrations damaging to the health; work for long hours or night work where the child is unreasonably confined to the premises.

Children who are trafficked are among the most exploited, and qualify as victims of the worst forms of child labor equivalent to slavery under ILO Convention 182. Trafficked children who work full-time are generally unable to attend school. Furthermore, children who are trafficked have often dropped out of school early or have never attended school at all.

The existence of child labor and the trafficking of children for exploitative employment have many implications for a country. In source communities from which children are trafficked, sending a child to be employed far from home influences others to do likewise. The negative effects of trafficking include poorly educated children with low skills who return to their communities traumatized, in ill health (e.g., HIV/AIDS, sexually transmitted diseases, drug addiction), and susceptible to premature death. It is often challenging to reintegrate these children into communities that are already resource-poor and overburdened with social problems. Contrary to the belief that migration of children is a solution to poverty, it often reproduces it and leads to other social problems.

It is important to undertake education initiatives for children involved in child labor and their at-risk siblings. It is also important to educate children who are victims of or susceptible to trafficking, because their lack of schooling hinders their personal development, as well as that of a modern workforce, overall labor market reform, poverty reduction and social progress. Education is a key investment that has been linked to the acceleration of a nation's productivity and socioeconomic development. Poorly educated workers tend to earn less, live in poverty, and may in turn send their own children to work at a young age. Consequently, it is important to keep children in educational settings instead of in workplaces. Further, keeping children in school protects them from the abuses of child labor and trafficking.

From FY 2001 to FY 2003, in addition to U.S. $135 million earmarked for ILO/IPEC efforts, U.S. $111 million was appropriated to USDOL for a Child Labor Education Initiative to fund programs aimed at increasing access to quality, basic education in areas with a high incidence of abusive and exploitative child labor. The grant(s) awarded under this solicitation will be funded through this initiative.

USDOL's Child Labor Education Initiative seeks to nurture the development, health, safety and enhanced future employability of children around the world by increasing access to basic education for children removed from work or at risk of entering into labor. Child labor elimination depends in part on improving access to, quality of, and relevance of education.

The Child Labor Education Initiative has four goals:

1. Raise awareness of the importance of education for all children and mobilize a wide array of actors to improve and expand education infrastructures;

2. Strengthen formal and transitional education systems that encourage working children and those at risk of working to attend school;

3. Strengthen national institutions and policies on education and child labor; and

4. Ensure the long-term sustainability of these efforts.

B. Barriers to Education for Working Children and Country Background

1. Child Labor and Barriers of Access to Education

Throughout the world there are complex causes to child labor as well as barriers to education for children engaged in or at risk of child labor. These include:

• Poverty—when families need children's income for survival, there is a high opportunity cost to enrolling a child in school, and the direct and indirect costs of schooling are unaffordable.

• Education system barriers—which include low quality and relevance of education and curricula; low teacher training/preparation of school personnel to address education of children with special needs, such as child laborers; poor teaching methods; lack of or weak systems to address reintegration of dropouts, or to provide equivalency and/or bridge programs between non-formal and formal or vocational education.

• Infrastructure barriers—which include distance to school; inadequate school buildings (too small, too few primary, secondary or vocational schools); overcrowded schools; lack of open spaces for physical activity and related facilities; lack of transportation; lack of latrines, water, electricity and other basic infrastructure.

• Legal and policy barriers—which include policies that discourage school enrollment and retention, weak law enforcement, or non-existent, inconsistent or inadequate education policies for working children.

• Resource gaps—which include either overall low level of resources within the country, or a low allocation of existing resources relative to the needs of working children, or to child labor eradication or education goals set by government policies.

• Institutional barriers—which include weaknesses that hamper an organization's ability to effectively implement programs, and/or limited coordination among social partners (various level of government, NGOs, private sector) to match existing resources to education gaps and needs of working children.

• Informational gaps—which include lack of information on the education needs of child laborers or their educational performance so as to develop relevant and targeted programs; lack of available relevant social indicator data to identify, target and map families with working children; lack of consistent monitoring and evaluation of programs to draw lessons learned, or limited awareness on the part of different actors of the benefits of education for working children.

• Demographic characteristics of children and/or families—which include factors that put a child at higher risk of child labor and lack of access to education, such as belonging to an ethnic group, gender or social class, family composition (e.g., single head of household or polygamous household, multiple siblings, etc.), being overage relative to grade.

• Cultural and traditional practices—which include community attitudes that children should work and help the family, and attitudes and practices towards gender and social roles.

• Weak labor markets and lack of employment for those more educated, which diminish the perceived value of an education, and increases the value of early entry into the labor market.

Although these elements and characteristics tend to exist throughout the world in areas of high child labor, they manifest themselves and/or combine in particular ways in each country of interest in this solicitation. In their response to the solicitation, applicants should be able to identify the specific barriers to education and the education needs of specific children targeted in their project (e.g., children withdrawn from work, children at high risk of drop out into the labor force, children still working in a particular sector, etc.). Short background information on education and child labor in each of the countries of interest is provided below. For additional information on child labor in these countries, applicants are referred to The Department of Labor's 2001 Findings on the Worst Forms of Child Labor available at http://www.dol.gov/ILAB/media/reports/iclp/tda2001/overview.htm or in hard copy from Lisa Harvey, U.S. Department of Labor, Procurement Services Center, telephone (202) 693-4570 (this is not a toll-free-number) or e-mail: harvey.lisa@dol.gov.

2. Country Background

Brazil

In 2000, the ILO estimated that 14.4 percent of children of between the ages of 10 and 14 in Brazil were working. The major sectors where children work are agriculture, mining and charcoal industries, domestic service, scavenging in garbage dumps, prostitution, pornography, and drug trafficking. Child labor is most frequent in northern and northeastern Brazil where it is estimated that there are over 700,000 children and adolescents working in farming and agriculture alone.

Most child laborers in Brazil come from families whose per capita income is less than one minimum monthly wage. Throughout the 1990s improving family income and breaking the cycle of poverty through education have been at the core of Brazil's policies to fight child labor. At the Federal level, Brazil administers various programs implemented by different ministries, and has developed commissions to address issues related to child labor. Each state has a group designated to report to the Ministry of Labor and Employment on local activities and initiatives aimed to eliminate child labor.

Brazil's most widespread and innovative child labor prevention and elimination initiatives are the Bolsa Escola Program (school scholarship) and PETI (Child Labor Elimination Program). The Ministry of Education oversees the Bolsa Escola program, which benefits over eight million children and provides mothers with a monetary stipend in return for children's school attendance. The program is the largest of its kind in the world. The PETI program, administered by the Ministry of Social Assistance and Advancement, gives stipends to families that remove children from the worst forms of child labor and keep them in school. Approximately 800,000 children under the program attend public school and a Jornada Ampliada (extended school day) program, to discourage them from working before or after school.

At the core of these programs is the notion that work has a negative effect on the educational development of children and adolescents. In Brazil, the illiteracy rate among child workers is 20 percent compared to 8 percent for children who do not work. Providing education to child workers or children at risk of working supports objectives of Brazil's Education for All (EFA) Ten-Year Plan (1994-2003), and implementation of compulsory attendance policies for ages seven to 14 (grades one through eight). Basic education through grade eight is free. Prompted by the Word Conference on Education for All in 1990, Brazil set its goals to achieve equity through quality education for all by the year 2003. Implementation of Brazil's EFA Plan has attempted to address a number of the country's core objectives, which are: (1) Universal access to basic education; (2) education expansion; (3) valorization of the teaching profession; and (4) improvement of the quality of public education.

Although access to basic education in Brazil has increased tremendously in the last ten years, the quality of education, particularly in rural areas, has suffered. In many cases, schools do not offer classes above the fourth grade, and when they do, curricula are often not contextual to students' lives and teachers are poorly motivated. In addition, the minimum age for work (16) and the age at which compulsory schooling ends (14) are not harmonized. As a result, adolescents have few options and, out of economic need, often choose to work illegally beginning at age 14. These adolescents often engage in hazardous activities without social benefits or legal recourse. All of the factors above, combined with real economic needs of students, contribute to the high dropout rates of youth who leave school to work.

As a result of improved education policy and practice, Brazil has achieved many educational successes over the past decade, including for working children. Yet numerous barriers to the education of working children in Brazil, particularly in rural and peri-urban areas in the north and northeast regions, still remain. The most important gaps/needs for improving the education of children removed from child labor include: (1) Poor quality of education for both classroom and extended day programs; (2) lack of job and skills training for older children; (3) need for improved coordination of programs and services between federal, state, municipal governments, and civil society in the delivery of educational programs at the community level; and (4) gaps in data collection, knowledge management and evaluation of educational initiatives that allow for improved identification of target populations, and performance evaluation and assessment of impact. The project funded by this solicitation will contribute to efforts already underway to prevent and eliminate hazardous child labor by addressing specific barriers to education, and by expanding and improving the impact of existing programs.

Cambodia

A 2001 child labor study conducted by the Cambodian National Institute of Statistics found that over 1.5 million children aged five to 14, or about 45 percent of the age group, were working, almost one-fourth of them more than 35 hours per week. Rates of labor participation by gender were relatively equal. Many working children appear particularly vulnerable to exploitation, such as the 20,000 working children under the age of 15 who reported living away from home during the survey period. In addition, Cambodian children are engaged in some of the worst forms of child labor, such as commercial sexual exploitation (CSE). Cambodia is reported to be a country of origin, transit and destination for trafficking in persons, including children, for the purposes of CSE and various forms of work, including labor and begging. Internal trafficking of children also occurs. Children, primarily girls, also work as domestic servants, and many of them do not attend school.

In this context, the Government of Cambodia has made significant efforts to improve access to quality education for children. In May 2001, the Ministry of Education, Youth and Sports (MOEYS) published its Education Strategic Plan 2001-2005, which established priorities to expand access to quality education opportunities, and to increase the institutional capacity of local schools and communities for involvement in educational decision-making. The plan includes multiple targets that are of relevance to working and/or vulnerable children, including efforts to increase enrollment at the primary and secondary levels; mainstreaming children back into school; improving gender parity; improving educational quality; and increasing persistence and retention indicators.

The government's abolition of start-of-year primary school entry fees in 2001 reportedly led to a large increase in gross and net enrollment rates. Marked progress has also been made in extending access to education through secondary school construction and primary school expansion. NGOs are also active in improving access to and quality of education, and work at the grassroots level with local government officials and communities. Several scholarship programs, including a new large-scale effort by the government, target vulnerable girls to ensure that they enroll in secondary schools, particularly since the dropout rate is disproportionately higher for girls. A Non-Formal Education (NFE) Department within MOEYS focuses on delivering tailored education services to meet the needs of people of all ages, including working children and children out of school.

As a result of these efforts, access to education has improved, as have efficiency indicators such as recent reductions in repetition rates. However, there are still large educational disparities at the provincial and district levels, and serious gender and rural-urban gaps remain. Dropout continues to be a problem. Furthermore, significant numbers of children are effectively barred from returning to the formal school system if they drop out temporarily, as children above the age of 12 are unable to enter grades 1-3. The government has developed an NFE strategy, but implementation of many aspects of it, including providing NFE with a view to mainstreaming recipients, is still in the early stages.

Banteay Meanchey, Otdar Meanchey, Battambang, Siem Reap, Prey Veng, Svay Rieng, and Kampong Cham have been identified as provinces containing significant numbers of children at risk of the worst forms of child labor, particularly trafficking and CSE. Applicants are requested to select up to three provinces in which to focus interventions in selected areas where there is high risk to children of being trafficked and/or becoming engaged in CSE. The areas selected should demonstrate the applicant's clear understanding of risk factors that constitute barriers to the education of children engaged in or at risk of child labor. Applicants are strongly encouraged to focus activities on the primary school level and on the transition to secondary school for two main populations: children who have dropped out of school (or never enrolled) who wish to return and reintegrate into the formal school or pursue alternative education, and children in primary school who are at risk of dropping out.

Applicants are also strongly encouraged to demonstrate how project activities can inform policies to develop a replicable and sustainable strategy that can be brought to scale for larger numbers of working children. This approach would include identification of common factors causing children to drop out and/or fail to enroll in the formal schools, barriers to re-entry for children engaged in or at risk of child labor, and successful models for mainstreaming children from NFE to the formal education system. In particular, proposals should demonstrate how activities will complement, extend and reinforce the objectives of existing national and NGO efforts and the plans of the government of Cambodia. Proposals may also link with other U.S. government-funded or international donor efforts.

West Africa

Benin

In 2000, the ILO estimated that 26.5 percent of children between the ages of 10 and 14 in Benin were working. Children as young as seven years old work on family farms, as domestic servants, on urban construction sites, in public markets, and in other small enterprise-based jobs. In addition, children are trafficked within Benin to the urban areas of Cotonou, Parakou and Porto Novo. There is also the traditional practice of vidomegon, which involves poor rural families placing children (typically daughters) in the homes of wealthier families, often relatives, so that the children may work and receive an education. However, the practice often degenerates into exploitation as children are forced to work as domestic servants, for long hours and with little or no access to education or wages.

Benin is also a source, destination and transit country for the cross-border trafficking of children. Beninese children are usually trafficked into Nigeria, Cameroon, Côte d'Ivoire, Gabon, and Niger, and the country receives children from Burkina Faso, Niger and Togo. Trafficked children are often employed as agricultural workers, domestic servants, and commercial sex workers. More than half of internally trafficked children are girls, while the majority of externally trafficked children are boys. Boys who are trafficked internationally often go to work on cocoa, coffee or cotton plantations in Côte d'Ivoire, or for fishing or manual labor in informal workshops. Many girls who are victims of cross-border trafficking are brought to Gabon to work as domestic servants.

Most victims of child labor and child trafficking originate from rural areas and tend to have little, if any, education even though primary education in Benin is free and compulsory for children between the ages of six and 11 years. Indirect and opportunity costs of attending school are two major barriers that keep children out of school. The gross primary enrollment rate in 1998 was 84.2 percent, although there was a significant gap in boys' and girls' enrollment rates. There is also a considerable disparity between the genders in attendance rates.

A 1997 conference identified and prioritized weaknesses in the education system. Among the top concerns listed were a shortage of trained teachers, inadequate school infrastructure, and illiteracy (particularly among parents), all of which contribute to high dropout rates. Exacerbating this problem is the lack of education alternatives for children who have returned home or who have been removed from hazardous labor situations.

Furthermore, their communities are not organized to receive them and provide them with an education.

In response to these challenges, in 1999 the Ministry of Family, Social Protection and Solidarity established a unit for Family and Childhood that works on a variety of programs to combat child trafficking, including creating village vigilance committees and building crisis centers for children. The Ministry of Family also works to provide educational spaces for child laborers, particularly those engaged in domestic service and vidomegons.

The National Commission on Child Rights, an inter-ministerial committee headed by the Ministry of Justice, Legislation and Human Rights that includes representatives from NGOs, religious organizations and Parent-Teacher Associations, was established in 2000. The international media attention attracted in 2001 as a result of the Etireno, a ship that was believed to have originated in Benin and was reported to be transporting trafficked children, prompted the Government of Benin to increase its efforts to combat child trafficking and child labor. These efforts included the development of a two-year action plan (2001-2003) by the National Commission on Child Rights to combat trafficking. Benin is also one of nine countries participating in a USDOL-funded project to combat the trafficking of children for exploitative labor in West and Central Africa, described at http://www.dol.gov/ILAB/grants/education/sga0305/bkgrdSGA0305.htm.

In October 2002, the government of Benin developed a rapid response plan (plan d'urgence) to combat child trafficking, which includes activities to improve legislation and strengthen child protection efforts. Also in 2002, the National Committee against Child Trafficking was formed.

Benin has already made strides in fighting child trafficking and promoting education, particularly within the formal system. In order to foster sustainability and build on existing activities and achievements, applications should take into account existing programs and seek to fill gaps that have not already been addressed. Applicants should especially consider the need for and availability of formal versus non-formal, transitional or vocational education programs in proposed target areas, and tailor approaches accordingly. USDOL would also like to ensure that the EI project complements efforts in Benin already funded by the U.S. government without duplicating them.

Burkina Faso

In 2000, the ILO estimated that 43.5 percent of children between the ages of 10 and 14 in Burkina Faso were working. Most working children in the country are found in agriculture, gold mining and washing, and informal sector activities including domestic service. Children often start working in the mining sector as part of households, at ages as young as six. The HIV/AIDS epidemic has also orphaned numerous children, thereby increasing the population of street children, an at-risk group for child labor, in Ouagadougou and Bobo-Dioulasso.

Due in part to its geographic location, Burkina Faso is a sending, receiving and transit country for trafficked children. Yet few statistics are available on the phenomenon. Furthermore, there is low public recognition of child trafficking as a problem and there is a perception that sending a child to work through trafficking increases family income. The salaries or promised salaries, albeit small, give villagers cause to believe that money is to be made in exodus. In reality, the middlemen who recruit, transport, and place children generally live off the earnings, each receiving a portion of the money promised to the child or family.

External, or cross-border, trafficking represents roughly one-quarter of intercepted children, and the countries most believed to receive children are Côte d'Ivoire, Nigeria, and Mali, with smaller numbers going to Gabon and Niger. The majority of externally trafficked children tend to be boys whose primary destination is Côte d'Ivoire. Foreign children working in Côte d'Ivoire are at greater risk considering the current political unrest in that country.

Seventy-four percent of trafficked children intercepted between September 2001 and May 2002 were moving internally. Of these children, 65 percent were girls. In general, children are trafficked from rural areas such as Tougan, Gaoua, and Diebougou into Bobo-Dioulasso, Ouagadougou and Ouahigouya where they work as domestic servants, street vendors, and in prostitution. An ILO study estimated that more than 81,000 children in Bobo-Dioulasso and Ouagadougou have been internally trafficked and placed in work situations by an intermediary.

Elsewhere children are moved from the northern and central villages, especially in the Dedougou and Boromo regions, for agricultural work in the regions of Bobo-Dioulasso and Banfora. Both boys and girls work in cotton production, an especially arduous and dangerous job considering the hours of work, the intensive physical labor, and the use of pesticides. Cotton producers in Kompienga and the provinces of N'Gourma, Tapoa and Gnagna also hire migrant children. Since this work is seasonal, children may return home at the end of the season.

Many codes in the penal system regulate children's work and protection, but child trafficking itself is not illegal. The Ministry of Social Action and National Solidarity has drafted a National Action Plan on Child Trafficking, and is working with the Ministry of Justice to revise national legislation to address child trafficking. The Ministry of Social Action has also established Vigilance and Surveillance Committees that involve representatives from the Ministry of Employment, police, local authorities and NGOs, employers and transport companies, among others. The government of Burkina Faso has drafted an agreement with Côte d'Ivoire to address child trafficking between the two countries, but the process has stalled due to the current political situation in Côte d'Ivoire. Burkina Faso is one of nine countries participating in a USDOL-funded project to combat the trafficking of children for exploitative labor in West and Central Africa, described at http://www.dol.gov/ILAB/grants/education/sga0305/bkgrdSGA0305.ht_.

Studies of repatriated children who have been trafficked show that most have received little, if any, schooling. Many are from rural, illiterate households. Nationwide, adult literacy rates hover around 24 percent, with less than 15 percent of the adult female population qualifying as literate.

Although education in Burkina Faso is compulsory from ages six to 16, the minimum age to work is 14. In 1998, the gross primary enrollment rate was 42.3 percent, and the gap between boys' and girls' enrollment was significant (50 percent for boys and 34.5 percent for girls). School enrollment is also lower in rural areas (especially in the eastern region of the country), and girls are particularly affected. Other problems that plague the education system include a shortage of trained teachers, high teacher absenteeism, inadequate infrastructure, a French-only system of instruction, and a perception that education is not beneficial (especially in the case of girls). Inaccessibility of schools in rural areas is exacerbated by a predominance of male teachers, which also reduces girls' attendance.

In order to extend the reach of the education system, the Burkinabe government has opened bilingual satellite schools in several communities where full cycle schools are too far away for younger children, or where older children were unable to attend school at the appropriate age. Upon completing three years at these schools, children can travel longer distances to the nearest primary school. The government has also established non-formal basic education centers for older children who have not gone to school. Education at these centers is bilingual and includes vocational training.

In September of 2002, the government of Burkina Faso launched a 10-Year Basic Education Development Plan (2001-2010), which forms part of the country's poverty reduction strategy. Among the goals that the plan (commonly referred to as PDDEB) to be achieved by 2010 are: 70 percent school enrollment, 40 percent literacy, 3000 satellite schools, and 3000 centers for non-formal basic education. The two primary focus areas of PDDEB are to increase educational access and to improve the quality and efficiency of schooling. PDDEB also envisions increasing girls' enrollment to 65 percent, addressing regional educational disparities, and strengthening the capacity of the educational system.

Given the low rates of literacy and school enrollment in Burkina Faso and the widespread extent of child labor and trafficking, applicants should be strategic in selecting underserved areas with high rates of child labor or trafficking, and inadequate educational options. Applications should be as specific as possible in terms of the population to be targeted and services to be provided, taking care that proposed goals and objectives are realistic and achievable in the given timeframe. More importantly, in view of the fact that PDDEB addresses many of the concerns outlined above and has the commitment of key stakeholders, activities proposed should support PDDEB goals and work within its framework. Applications should clearly explain how proposed activities fit into the 10-year plan, and the contribution they will make to achieving its goals.

Mali

In 2000, the ILO estimated that 51.1 percent of children between the ages of 10 and 14 in Mali were working. Children work in the agricultural sector, in gold mining and gold washing, and as domestic servants in urban areas. Children who are under the tutelage of religious teachers have also been found begging on the streets. Although details vary, it is often reported that Malian children, the majority of them boys, are trafficked outside of the country, predominantly to Côte d'Ivoire, to work on coffee, cotton and cocoa farms. It is also reported that girls are trafficked to Côte d'Ivoire to work as domestic servants. Children are trafficked by agents from organized networks who promise parents to provide the children with paid employment abroad. Commercial farm owners reportedly pay traffickers between U.S. $22 and $43 per child.

Since 1998 Mali has been building its capacity to combat child labor at the national and regional levels. It is one of nine countries participating in a USDOL-funded project to combat the trafficking of children for exploitative labor in West and Central Africa, described at http://www.dol.gov/ILAB/grants/education/sga0305/bkgrdSGA0305.htm_. In collaboration with various private organizations, the president of Mali launched an awareness raising campaign on child labor in January 2002. In March 2002, the Government of Mali ratified ILO Convention 138 on the Minimum Age for Work. The government also has plans to implement a national child labor survey to measure the nature and extent of child labor. In addition, the governments of Mali and Côte d'Ivoire signed a cooperative agreement in 2000 to control cross-border trafficking. The strategy includes the monitoring and prevention of child trafficking, and the repatriation and rehabilitation of children who have been trafficked.

A large number of returned trafficked children are ethnically Dogon. These children come from the impoverished, rural areas of Koulikoro and Mopti. Their families traditionally raise petit-millet crops, which have short harvests from June until September. Since the harvest is managed mostly by women, the Dogon men, well-known for their physical labor, tend to migrate to other rural and urban areas in search of seasonal work. This tradition extends to Dogon children and allows for the early migration of boys, girls and young men to other regions in search of work. Some are trafficked externally from Sikasso, while others find work in the southern cotton-growing regions, or as domestic servants in urban areas.

The Senoufo, an ethnic group found in southern Mali, have extensive family networks that cross into neighboring countries. In addition, the Senoufo have a tradition of traveling to find work. It is reported that unconfirmed numbers of Malian Senoufo boys are trafficked to work on the plantations of Côte d'Ivoire.

In Mali, three kinds of schools exist and they all follow a similar basic structure: government public schools, the religious Madrasas, and community schools. Many parents in Mali, the majority of whom are Muslim, choose to send their children (mostly boys) to Madrasas, or schools that offer Arabic and religious study in addition to basic subjects. However, Madrasas are either too expensive or do not exist in rural areas, so many parents compromise by sending their sons to study religion and literacy with the local Imam. Imams, not associated with the Madrasas, rely on payments from parents for their livelihood.

In Mali, primary education is compulsory and free until the age of 13, however students must pay for their own uniforms and school supplies to attend public schools. About 20 percent fewer girls than boys attend primary school, despite the overall higher population of girls.

In the public schools, success at the primary level is based on a child's ability to use French rather than transferable thinking skills in local languages. The government of Mali recognized the community school model in 1992 in response to locally identified needs for literacy, numeracy, health care, agriculture and other life skills. Community schools teach the first few years of primary school in local languages and are designed to prevent large masses of children from migrating in search of work. To assist community schools, the Malian government has equipped and renovated classrooms, recruited teachers and produced new teaching materials.

Obstacles to quality education for child workers and at risk children still exist, however, and low enrollment and attendance rates, drop outs and failures are partially attributed to parental decisions related to family work load, prohibitive school distances, school fees and other school-related costs. Rural areas also tend to have fewer vocational or literacy programs for working children.

Applicants interested in working in Mali should design a project that addresses the gaps to quality basic education for child workers, trafficked children and at risk children, in areas with a high incidence or culture of child labor, by complementing, but not duplicating, already existing efforts.

IV. Requirements

A. Statement of Work

Taking into account the challenges to educating working children in each country of interest, the applicant shall propose and implement creative and innovative approaches to provide educational opportunities to children engaged in or removed from child labor, particularly the worst forms. The expected outcomes/results of the project are to: (1) increase educational opportunities (enrollment) for children who are engaged in, at risk of, and/or removed from child labor, particularly its worst forms; (2) encourage retention in, and completion of educational programs; and (3) expand the successful transition of children in non-formal education into formal schools or vocational programs.

In the course of implementation, each project shall promote the goals of USDOL's Child Labor Education Initiative listed in section III.A above. Because of the limited available resources under this award, applicants should implement programs that complement existing efforts and, where appropriate, replicate or enhance successful models to serve expanded numbers of children and communities. In order to avoid duplication, enhance collaboration, expand impact, and develop synergies, the grant awardee (hereafter referred to as “Grantee”) should work cooperatively with national stakeholders in developing project interventions.

Although USDOL is open to all proposals for innovative solutions to address the challenges of providing increased access to education to the children targeted, the applicant must, at a minimum, prepare responses following the outline of a preliminary project document presented in Appendix A. This response will be the foundation for the final project document that will be approved after award of the grant.

Note to All Applicants

The Grantee is expected to consult with and work cooperatively with stakeholders in the countries, including the Ministries of Education and Labor, NGOs, national steering/advisory committees on child labor education, faith and community-based organizations, and working children and their families. Where practical, there should be efforts to collaborate with existing projects, particularly those funded by USDOL.

B. Deliverables

In addition to meeting the above requirements, the Grantee will be expected to monitor the implementation of the program, report to USDOL on a quarterly basis, and undergo evaluation of program results. Guidance on USDOL procedures and management requirements will be provided to the Grantee in written Management Procedures and Guidelines (MPG) after award. The project budget must include funds to plan, implement and evaluate programs and activities, conduct various studies pertinent to project implementation, to establish education baselines to measure program results, and travel to meet with USDOL officials in Washington DC at yearly intervals. Applicants based both within and outside the United States should also budget for travel to Washington DC at the beginning for a post-award meeting with USDOL. Indicators of performance will also be developed by the Grantee and approved by USDOL. Unless otherwise indicated, the Grantee must submit copies of all required reports to ILAB by the specified due dates. Specific deliverables are the following:

1. Project Design Document

The Grantee will prepare a preliminary project document in the format described in Appendix A, with design elements linked to a logical framework matrix. See http://www.dol.gov/ILAB/grants/education/sga0305/bkgrdSGA0305.htm for a worked example. The project document will include a background/justification section, project strategy (goal, purpose, outputs, activities, indicators, means of verification, assumptions), project implementation timetable and project budget. The narrative will address the criteria/themes described in section V.B.1 below Program Design/Budget-Cost Effectiveness. The final project design document will be based on the application written in response to this solicitation, but will include the results of additional consultation with stakeholders, partners, and ILAB. The document will also include sections that address coordination strategies, project management and sustainability. The final project document will be delivered three months after the time of the award.

2. Technical and Financial Progress Reports

The format for the technical progress report will be provided in the MPG distributed after the award. The Grantee must furnish a typed technical report to ILAB on a quarterly basis by 31 March, 30 June, 30 September, and 31 December. Technical reports will include:

a. For each project objective, an accurate account of activities carried out under that objective during the reporting period;

b. A description of current problems that may impede performance, and proposed corrective action;

c. Future actions planned in support of each project objective;

d. Aggregate amount of costs incurred during the reporting period relative to each objective; and

e. Progress on common Government Performance and Results Act (GPRA) indicators (to be reported semi-annually) to be provided to Grantees after award.

The Grantee must also furnish separate financial reports (SF 272 and 269) to ILAB on the quarterly basis mentioned above.

3. Annual Work Plan

An annual work plan will be developed within three months of project award and approved by ILAB so as to ensure coordination with other relevant social actors in the country. Subsequent annual work plans will be delivered no later than one year after the previous one.

4. Performance Monitoring and Evaluation Plan

A performance monitoring and evaluation plan will be developed, in collaboration with ILAB, including beginning and ending dates for the project, planned and actual dates for mid-term review, and final end of project evaluations. The performance monitoring plan will be developed in conjunction with the logical framework project design and common indicators for GPRA reporting selected by ILAB. Baseline data collection will be tied to the indicators of the project design document and the performance monitoring plan. A draft monitoring and evaluation plan will be submitted to ILAB within four months of project award.

5. Project Evaluation

The Grantee and the Grant Officer's Technical Representative (GOTR) will determine on a case-by-case basis whether mid-term evaluations will be conducted by an internal or external evaluation team. All final evaluations will be external in nature. The Grantee must respond in writing to any comments and recommendations resulting from the review of the mid-term report. The budget must include the projected cost of mid-term and final evaluations.

C. Production of Deliverables

1. Materials Prepared Under the Cooperative Agreement

The Grantee must submit to ILAB all media-related and educational materials developed by it or its sub-contractors before they are reproduced, published, or used. ILAB considers that education materials include brochures, pamphlets, videotapes, slide-tape shows, curricula, and any other training materials used in the program. ILAB will review materials for technical accuracy. The Grantee must obtain prior approval from the Grant's Officer Technical Representative for all materials developed or purchased under this grant. All materials produced by the Grantee must be provided to ILAB in digital format for possible publication by ILAB.

2. Acknowledgement of USDOL Funding

In all circumstances, the following must be displayed on printed materials:

• “Preparation of this item was funded by the United States Department of Labor under Cooperative Agreement No. E-9-X-X-XXXX.”

When issuing statements, press releases, requests for proposals, bid solicitations, and other documents describing projects or programs funded in whole or in part with Federal money, all Grantees receiving Federal funds, including State and local governments and recipients of Federal research grants, must clearly state:

a.The percentage of the total costs of the program or project that will be financed with Federal money;

b. The dollar amount of Federal funds for the project or program; and

c. The percentage and dollar amount of the total costs of the project or program that will be financed by non-governmental sources.

In consultation with ILAB, USDOL will be acknowledged in one of the following ways:

a. The USDOL logo may be applied to USDOL-funded material prepared for worldwide distribution, including posters, videos, pamphlets, research documents, national survey results, impact evaluations, best practice reports, and other publications of global interest. The Grantee must consult with USDOL on whether the logo may be used on any such items prior to final draft or final preparation for distribution. In no event will the USDOL logo be placed on any item until USDOL has given the Grantee written permission to use the logo on the item.

b. If ILAB determines that the use of the logo is not appropriate and written permission is not given, the following notice must appear on the document: “This document does not necessarily reflect the views or policies of the U.S. Department of Labor, nor does mention of trade names, commercial products, or organizations imply endorsement by the U.S. government.”

D. Administrative Requirements

1. General

Grantee organizations are subject to applicable U.S. Federal laws (including provisions of appropriations law) and the applicable Office of Management and Budget (OMB) Circulars. Determinations of allowable costs will be made in accordance with the applicable U.S. Federal cost principles. The Grantee will also be required to submit to a bi-annual independent audit, and costs for such an audit should be included in direct or indirect costs, whichever is appropriate.

The grant awarded under this SGA is subject to the following administrative standards and provisions, if applicable:

29 CFR Part 36—Federal Standards for Nondiscrimination on the Basis of Sex in Education Programs or Activities Receiving Federal Financial Assistance.

29 CFR Part 93—New Restrictions on Lobbying.

29 CFR Part 95—Uniform Administrative Requirements for Grants and Agreements with Institutions of Higher Education, Hospitals and Other Non-Profit Organizations, and with Commercial Organizations, Foreign Governments, Organizations Under the Jurisdiction of Foreign Governments and International Organizations.

29 CFR Part 96—Federal Standards for Audit of Federally Funded Grants, Contracts and Agreements.

29 CFR Part 98—Federal Standards for Government-wide Debarment and Suspension (Nonprocurement) and Government-wide Requirements for Drug-Free Workplace (Grants).

29 CFR Part 99—Federal Standards for Audits of States, Local Governments, and Non-Profit Organizations.

Applicants are reminded to budget for compliance with the administrative requirements set forth. This includes the cost of performing administrative activities such as financial audit, closeout, evaluation, document preparation, as well as compliance with procurement and property standards. Copies of all regulations referenced in this SGA are available at no cost, on-line, at http://www.dol.gov.

2. Sub-Contracts

Sub-contracts must be awarded in accordance with 29 CFR 95.40-48. In compliance with Executive Orders 12876, as amended, 13230, 12928 and 13021, as amended, the Grantee is strongly encouraged to provide sub-contracting opportunities to Historically Black Colleges and Universities, Hispanic-Serving Institutions and Tribal Colleges and Universities.

3. Key Personnel

The applicant shall list an individual(s) who has been designated as having primary responsibility for the conduct and completion of all project work. The applicant must submit written proof that key personnel will be available to begin work on the project no later than three weeks after award. The Grantee agrees to inform the GOTR whenever it appears impossible for this individual(s) to continue work on the project as planned. The Grantee may nominate substitute personnel and submit the nominations to the GOTR; however, the Grantee must obtain prior approval from the Grant Officer for all key personnel. If the Grant Officer is unable to approve the personnel change, he/she reserves the right to terminate the grant.

4. Encumbrance of Grant Funds

Grant funds may not be encumbered/obligated by the Grantee before or after the period of performance. Encumbrances/obligations outstanding as of the end of the grant period may be liquidated (paid out) after the end of the grant period. Such encumbrances/obligations shall involve only specified commitments for which a need existed during the grant period and which are supported by approved contracts, purchase orders, requisitions, invoices, bills, or other evidence of liability consistent with the Grantee's purchasing procedures and incurred within the grant period. All encumbrances/obligations incurred during the grant period shall be liquidated within 90 days after the end of the grant period, if practicable.

5. Site Visits

USDOL, through its authorized representatives, has the right, at all reasonable times, to make site visits to review project accomplishments and management control systems and to provide such technical assistance as may be required. If USDOL makes any site visit on the premises of the Grantee or a sub-contractor(s) under this grant, the Grantee shall provide and shall require its sub-contractors to provide all reasonable facilities and assistance for the safety and convenience of government representatives in the performance of their duties. All site visits and evaluations shall be performed in a manner that will not unduly delay the work.

V. Review and Selection of Applicants for Award

A. The Review Process

USDOL will screen all applications to determine whether all required elements are present and clearly identifiable. Each complete application will be objectively rated by a technical panel against the criteria described in this announcement. Applicants are advised that panel recommendations to the Grant Officer are advisory in nature. The Grant Officer may elect to select a Grantee on the basis of the initial application submission; or, the Grant Officer may establish a competitive or technically acceptable range for the purpose of selecting qualified applicants. If deemed appropriate, following the Grant Officer's call for the preparation and receipt of final revisions of applications, the evaluations process described above will be repeated to consider such revisions. The Grant Officer will make final selection determinations based on panel findings and consideration of factors that may be most advantageous to the government, such as geographic distribution of the competitive applications, cost, the availability of funds and other factors. The Grant Officer's determinations for awards under this SGA are final.

Note: Selection of an organization as a grant recipient does not constitute approval of the grant application as submitted. Before the actual grant is awarded, USDOL may enter into negotiations about such items as program components, funding levels, and administrative systems in place to support grant implementation. If the negotiations do not result in an acceptable submission, the Grant Officer reserves the right to terminate the negotiation and decline to fund the application. Award is also contingent upon signature of a letter of agreement between USDOL and relevant ministries in target countries.

B. Rating Criteria and Selection

The technical panel will review applications written in the specified format (see section III.B and Appendix A) against the various criteria on the basis of 100 points. Five additional points will be given for non-Federal or leveraged resources. Applicants are requested to prepare their written response (45 page maximum) on the basis of the following rating factors, which are presented in the order of emphasis that they will receive.

Program Design/Budget-Cost Effectiveness: 45 points

Organizational Capacity: 30 points

Management Plan/Key Personnel/Staffing: 25 points

Leveraging: 5 extra points

1. Project/Program Design/Budget—Cost Effectiveness (45 points)

This part of the application constitutes the preliminary project document described in section IV.B.1 and outlined in Appendix A. (Note: The supporting logical framework matrix will not count in the 45-page limit but should be included as an annex to the project document. To guide applicants, a sample logical framework matrix for a hypothetical child labor education project is available at http://www.dol.gov/ILAB/grants/education/sga0305/bkgrdSGA0305.htm.) The applicant should describe in detail the proposed approach to comply with each requirement in section IV.A of this solicitation.

This component of the application should demonstrate the applicant's thorough knowledge and understanding of the issues, barriers and challenges involved in providing education to children engaged in or at risk of engaging in child labor, particularly its worst forms; best-practice solutions to address their needs; and the implementing environment in the selected country. When complying with the project document outline, the applicant should at minimum include a description of:

• Children Targeted—The applicant will identify which and how many children will benefit from the project, including the sectors in which they work, geographical location, and other relevant characteristics.

• Needs/Gaps/Barriers—The applicant will describe the specific gaps/educational needs of the children targeted that the project will address.

• Proposed Strategy—The applicant will discuss the proposed strategy to address gaps/needs/barriers and its rationale.

• Description of Activities—The applicant will provide a detailed description of proposed activities that relate to the gaps/needs/barriers to be addressed including training and technical assistance to be provided to project staff, host country nationals, and community groups involved in the project. Ideally, the proposed approach should build upon existing activities, and government policies and plans and avoid needless duplication.

• Work Plan—The applicant will provide a detailed work plan and timeline for the proposed project, preferably with a visual such as a Gantt chart.

• Program Management and Performance Assessment—The applicant will describe: (1) How management will ensure that the goals and objectives will be met; (2) how information and data will be collected and used to demonstrate the impacts of the project; and (3) what systems will be put in place for self-assessment, evaluation and continuous improvement. USDOL has already developed common indicators and a database system for monitoring children's educational progress that can be used and adapted by Grantees after award so that they do not need to set up this type of system from scratch.

• Budget/Cost Effectiveness—The applicant will show how the budget reflects program goals and design in a cost-effective way so as to reflect budget/performance integration. The budget should be linked to the activities and outputs of the implementation plan listed above. This section of the application should explain the costs for performing all of the requirements presented in this solicitation, and for producing all required reports and other deliverables. Costs must include labor, equipment, travel, audits, evaluations, and other related costs. Preference may be given to applicants with low administrative costs, and all costs should be reported as they will become part of the cooperative agreement upon award. In their cost proposal, applicants must reflect a breakdown of the total administrative costs into direct administrative costs and indirect administrative costs. This section will be evaluated in accordance with applicable Federal laws and regulations. The budget must comply with Federal cost principles (which can be found in the applicable OMB Circulars) and with ILAB budget requirements contained in the application instructions in section III of this solicitation. Applicants are advised that customs and Value Added Tax (VAT) exemptions may not be allowed, and should take into account such costs in budget preparation. If major costs are omitted, the Grantee may not be allowed to include them later.

2. Organizational Capacity (35 points)

The applicant should present the qualifications of the organization(s) implementing the program/project. The evaluation criteria in this category are as follows:

a. International Experience—The organization applying for the award has international experience implementing basic, transitional, non-formal or vocational education programs that address issues of access, quality, and policy reform for vulnerable children including children engaged in or at risk of child labor, preferably in the country of interest or neighboring countries.

b. Country Presence—An applicant must demonstrate a country presence, or the capability to establish a country presence, independently or through a relationship with another organization(s) with country presence, which gives it the capability to work directly with government ministries, educators, civil society leaders, and other local faith-based or community organizations. Applicants without country presence must provide evidence that legal country presence can be established within 90 days of award. For applicants that do not have independent country presence, documentation of the relationship with the organization(s) with such a presence must be provided, or the capacity to establish such a relationship within 90 days of award.

c. Fiscal Oversight—The organization shows evidence of a sound financial system. The results of the most current independent financial audit must accompany the application, and applicants without one will not be considered.

d. Coordination—If two or more organizations are applying for the award in the form of a partnership, they must demonstrate an approach to ensure the successful collaboration including clear delineation of respective roles and responsibilities. The applicants must also identify the lead organization (Grantee) and submit the partnership agreement. Partners of the Grantee will be designated as contractors or sub-contractors.

e. Experience—The application must include information about previous grant or contracts of the applicant and partners that are relevant to this solicitation including:

1. The organizations for which the work was done;

2. A contact person in that organization with their current phone number;

3. The dollar value of the grant, contract, or cooperative agreement for the project;

4. The time frame and professional effort involved in the project;

5. A brief summary of the work performed; and

6. A brief summary of accomplishments.

This information on previous grants and contracts held by the applicant and partners shall be provided in appendices and will not count in the maximum page requirement.

3. Management/Plan/Key Personnel/Staffing (25 points)

Successful performance of the proposed work depends heavily on the management skills and qualifications of the individuals committed to the project. Accordingly, in its evaluation of each application, USDOL will place emphasis on the applicant's management approach and commitment of personnel qualified for the work involved in accomplishing the assigned tasks. This section of the application must include sufficient information to judge management and staffing plans, and the experience and competence of program staff proposed for the project to assure that they meet the required qualifications. Information provided on the experience and educational background of personnel should include the following:

a. The identity of key personnel assigned to the project. “Key personnel” are staff who are essential to the successful operation of the project and completion of the proposed work and, therefore, may not be replaced or have hours reduced without the approval of the Grant Officer.

b. The educational background and experience of all staff to be assigned to the project.

c. The special capabilities of staff that demonstrate prior experience in organizing, managing and performing similar efforts.

d. The current employment status of staff and availability for this project. The applicant must also indicate whether the proposed work will be performed by persons currently employed or is dependent upon planned recruitment or sub-contracting.

Note that management and professional technical staff members comprising the applicant's proposed team should be individuals who have prior experience with organizations working in similar efforts, and are fully qualified to perform work specified in the Statement of Work. Where sub-contractors or outside assistance are proposed, organizational control should be clearly delineated to ensure responsiveness to the needs of USDOL. Key personnel must sign letters of agreement to serve on the project, and indicate availability to commence work within three weeks of grant award.

In this section, the following information must be furnished:

a. Key personnel—For each country for which an application is submitted, the applicant must designate the key personnel listed below. If key personnel are not designated, the application will not be considered.

i. A Project Director (Key Personnel) to oversee the project and be responsible for implementation of the requirements of the grant. The Program Director must have a minimum of three years of professional experience in a leadership role in implementation of complex basic education programs in developing countries in areas such as education policy; improving educational quality and access; educational assessment of disadvantaged students; development of community participation in the improvement of basic education for disadvantaged children, and monitoring and evaluation of basic education projects. Points will be given for candidates with additional years of experience including experience working with officials of ministries of education and/or labor. Preferred candidates will also have knowledge of child labor issues, and experience in the development of transitional, formal, and vocational education of children removed from child labor and/or victims of the worst forms of child labor. Fluency in English is required and working knowledge of the official language(s) spoken in the target countries is preferred.

ii. An Education Specialist (Key Personnel) who will provide leadership in developing the technical aspects of this project in collaboration with the Project Director. This person must have at least three years experience in basic education projects in developing countries in areas including student assessment, teacher training, educational materials development, educational management, and educational monitoring and information systems. This person must have experience in working successfully with ministries of education, networks of educators, employers' organizations and trade union representatives or comparable entities. Additional experience with child labor/education policy and monitoring and evaluation is an asset. Working knowledge of English preferred, as is a similar knowledge of official language(s) spoken in the target country.

b. Other Personnel—The applicant must identify other program personnel proposed to carry out the requirements of this solicitation.

c. Management Plan—The management plan must include the following:

i. A description of the functional relationship between elements of the project's management structure;

ii. The identity of the individual responsible for project management and the lines of authority between this individual and other elements of the project.

d. Staff loading Plan—The staff loading plan must identify all key tasks and the person-days required to complete each task. Labor estimated for each task must be broken down by individuals assigned to the task, including sub-contractors and consultants. All key tasks should be charted to show time required to perform them by months or weeks.

e. Roles and Responsibilities—The applicant must include a resume and description of the roles and responsibilities of all personnel proposed. Resumes must be attached in an appendix. At a minimum, each resume must include: the individual's current employment status and previous work experience, including position title, duties, dates in position, employing organizations, and educational background. Duties must be clearly defined in terms of role performed, e.g., manager, team leader, consultant, etc. Indicate whether the individual is currently employed by the applicant, and (if so) for how long.

4. Leverage of Grant Funding (5 points)

The Department will give up to five (5) additional rating points to applications that include non-Federal resources that significantly expand the dollar amount, size and scope of the application. These programs will not be financed by the project, but can complement and enhance project objectives. Applicants are also encouraged to leverage activities such as micro-credit or income generation projects for adults that are not directly allowable under the grant. To be eligible for the additional points, the applicant must list the source(s) of funds, the nature, and possible activities anticipated with these funds under this grant and any partnerships, linkages or coordination of activities, cooperative funding, etc.

Signed in Washington, DC, this 6th day of May, 2003.
Daniel P. Murphy,
Grant Officer.

Appendix A: Project Document Format

Executive Summary

1. Background and Justification

2. Target Groups

3. Program Approach and Strategy

3.1 Narrative of Approach and Strategy (and linked to Logical Framework matrix).

3.2 Project Implementation Timeline (Gantt Chart of Activities linked to Logical Framework).

3.3 Budget (with cost of Activities linked to Outputs for Budget Performance Integration).

4. Project Monitoring and Evaluation

4.1 Indicators and Means of Verification.*

* Initial choice of and justification of indicators and means of verification can be refined and/or adapted after baseline collection and development of Monitoring and Evaluation Plan.

4.2 Baseline Data Collection Plan.

5. Institutional and Management Framework

5.1 Institutional Arrangements for Implementation.

5.2 Collaborating and Implementing Institutions (Partners) and Responsibilities.

5.3 Other Donor or International Organization Activity and Coordination.

5.4 Project Management Organizational Chart.

6. Inputs

6.1 Inputs provided by the DOL.

6.2 Inputs provided by the Grantee.

6.3 National and/or Other Contributions.

7. Sustainability

Annex A: Full presentation of the Logical Framework matrix.

(A worked example of a Logical Framework matrix and other background documentation for this SGA are available from the ILAB Web site at http://www.dol.gov/ILAB/grants/education/sga0305/bkgrdSGA0305.htm.)

[FR Doc. 03-11857 Filed 5-12-03; 8:45 am]

BILLING CODE 4510-28-P